DEPARTMENT OF AGRICULTURE

Animal and Plant Health Inspection Service

[Docket No. APHIS-2008-0121]

Notice of Availability of an Evaluation of the Highly Pathogenic Avian Influenza Subtype H5N1 Status of Saxony, Germany

AGENCY: Animal and Plant Health Inspection Service, USDA.

ACTION: Notice of availability and request for comments.

SUMMARY: We are advising the public that the Animal and Plant Health Inspection Service has prepared an evaluation of the animal health status of Saxony, Germany, relative to the H5N1 subtype of highly pathogenic avian influenza (HPAI). The evaluation presents our assessment of the HPAI H5N1 detection, control, and eradication measures in place in Saxony, Germany, during an outbreak of HPAI in 2008, as well as our assessment of the present status of Saxony, Germany, with respect to HPAI subtype H5N1. We are making this evaluation available to the public for review and comment. If, after the close of the comment period, APHIS can identify no additional risk factors that would indicate that domestic poultry in Saxony, Germany, continue to be affected with HPAI H5N1, we would conclude that the importation of live birds, poultry carcasses, parts of carcasses, and eggs (other than hatching eggs) of poultry, game birds, or other birds from the affected region of Saxony, Germany, presents a low risk of introducing HPAI H5N1 into the United States.

DATES: We will consider all comments that we receive on or before July 13, 2009.

ADDRESSES: You may submit comments by either of the following methods:

• Federal eRulemaking Portal: Go to http://www.regulations.gov/fdmspublic/component/main?main=DocketDetail&d=APHIS-2008-0121 to submit or view comments and to view supporting and related materials available electronically.

• Postal Mail/Commercial Delivery: Please send two copies of your comment to Docket No. APHIS-2008-0121, Regulatory Analysis and Development, PPD, APHIS, Station 3A-03.8, 4700 River Road, Unit 118, Riverdale, MD 20737-1238. Please state that your comment refers to Docket No. APHIS-2008-0121.

Reading Room: You may read any comments that we receive on the evaluation in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Julia Punderson, Regionalization Evaluation Services Staff, National Center for Import and Export, VS, APHIS, 4700 River Road, Unit 38, Riverdale, MD 20737-1231; (301) 734-4356.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a zoonotic disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

On October 9, 2008, the German Federal Ministry of Consumer Protection, Food and Agriculture (BMVEL) reported an outbreak of HPAI H5N1 in a single mixed-species flock in Marfersdorf, located in the district of Görlitz in the Federal State of Saxony following the identification of HPAI H5N1 in a wild bird on a nearby lake.

The restrictions put in place by the European Commission on October 9, 2008, in response to that limited outbreak were lifted on November 13, 2008, following extensive surveillance and epidemiologic investigations. In a document titled, “APHIS' Evaluation of the Status of High Pathogenicity Avian Influenza H5N1 (HPAI H5N1) in Saxony, Germany” (February 2009), we present the results of our evaluation of the status of HPAI H5N1 in domestic poultry in Saxony, Germany, in light of the actions taken by German authorities since the 2008 outbreak, and document our analysis of the risk associated with allowing the importation of birds, poultry, and poultry products from the region of Saxony, Germany, into the United States in the aftermath of the 2008 outbreak.

Based on the evaluation, we have determined that the BMVEL was able to effectively control and eradicate HPAI H5N1 in their domestic poultry populations and that the German authorities have adequate control measures in place to rapidly identify, control, and eradicate the disease should it be reintroduced into the country in either wild birds or domestic poultry.

We are making the evaluation available for public review and comment. We will consider all comments that we receive on or before the date listed under the heading DATES at the beginning of this notice. The evaluation may be viewed on the Regulations.gov Web site or in our reading room (see ADDRESSES above for a link to Regulations.gov and information on the location and hours of the reading room). You may request paper copies of the evaluation by calling or writing to the person listed under FOR FURTHER INFORMATION CONTACT. Please refer to the title of the evaluation when requesting copies.

If, after the close of the comment period, APHIS can identify no additional risk factors that would indicate that domestic poultry in Saxony, Germany, continues to be affected with HPAI H5N1, we would conclude that the importation of live birds, poultry carcasses, parts of carcasses, and eggs (other than hatching eggs) of poultry, game birds, or other birds from Saxony, Germany, presents a low risk of introducing HPAI H5N1 into the United States.

Authority: 7 U.S.C. 450, 7701-7772, 7781-7786, and 8301-8317; 21 U.S.C. 136 and 136a; 31 U.S.C. 9701; 7 CFR 2.22, 2.80, and 371.4.

Done in Washington, DC, this 8th day of June 2009.
Kevin Shea,
Acting Administrator, Animal and Plant Health Inspection Service.

[FR Doc. E9-13840 Filed 6-11-09; 8:45 am]

BILLING CODE 3410-34-P